POSTAL REGULATORY COMMISSION

Sunshine Act Meetings

FEDERAL REGISTER CITATION OF PREVIOUS ANNOUNCEMENT: 75 FR 4429 (January 27, 2010).

PREVIOUSLY ANNOUNCED TIME AND DATE: Wednesday, February 3, 2010 at 11 a.m.

CHANGES IN THE MEETING: The Commission is adding item no. 13-discussion of confidential commercial information relative to a potential Commission contract (closed) to its February meeting agenda. This action is being taken pursuant to a determination of the Commission, by recorded vote, as to the need for the change in the agenda, the status of the new agenda item, and the inability to provide earlier notice. There is a related General Counsel certification as to the appropriateness of closing agenda item no. 13 to public observation.

CONTACT PERSON FOR FURTHER INFORMATION: Stephen L. Sharfman, General Counsel, Postal Regulatory Commission, at 202-789-6820 or stephen.sharfman@prc.gov.

Dated: February 1, 2010.
Shoshana M. Grove,
Secretary.

[FR Doc. 2010-2450 Filed 2-1-E8; 4:15 pm]

BILLING CODE 7710-FW-S